ENVIRONMENTAL PROTECTION AGENCY

40 CFR Part 52

[RME No. R03-OAR-2004-MD-0002; FRL-7933-8]

Approval and Promulgation of Air Quality Implementation Plans; Maryland; Control of Visible and Particulate Emissions From Glass Melting Facilities

AGENCY: Environmental Protection Agency (EPA).

ACTION: Proposed rule.

SUMMARY: EPA is proposing to approve a State Implementation Plan (SIP) revision submitted by the State of Maryland. This revision consists of regulations for the control of particulate and visible emissions from glass melting facilities. This action is being taken under the Clean Air Act (CAA or the Act).

DATES: Written comments must be received on or before August 5, 2005.

ADDRESSES: Submit your comments, identified by Regional Material in EDocket (RME) ID Number R03-OAR-2004-MD-0002 by one of the following methods:

Federal eRulemaking Portal: http://www.regulations.gov. Follow the on-line instructions for submitting comments.

Agency Web site: http://www.docket.epa.gov/rmepub/ RME, EPA's electronic public docket and comment system, is EPA's preferred method for receiving comments. Follow the on-line instructions for submitting comments.

E-mail: campbell.dave@epa.gov.

Mail: R03-OAR-2004-MD-0002, David Campbell, Chief, Air Quality and Analysis Branch, Mailcode 3AP21, U.S. Environmental Protection Agency, Region III, 1650 Arch Street, Philadelphia, Pennsylvania 19103.

Hand Delivery: At the previously-listed EPA Region III address. Such deliveries are only accepted during the Docket's normal hours of operation, and special arrangements should be made for deliveries of boxed information.

Instructions: Direct your comments to RME ID No. R03-OAR-2004-MD-0002. EPA's policy is that all comments received will be included in the public docket without change, and may be made available online at http://www.docket.epa.gov/rmepub/, including any personal information provided, unless the comment included information claimed to be Confidential Business Information (CBI) or other information whose disclose is restricted by statute. Do not submit information that you consider to be CBI or otherwise protected through RME, regulations.gov or e-mail. The EPA RME and the Federal regulations.gov Web sites are an “anonymous access” system, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://www.docket.epa.gov/rmepub/. Although listed in the index, some information is not publicly available, i.e., CBI or other information whose disclosure is restricted by statute. Certain other material, such as copyrighted material, is not placed on the Internet and will be publicly available only in hard copy form. Publicly available docket materials are available either electronically in RME or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland, 21230, Baltimore, Maryland 21224.

FOR FURTHER INFORMATION CONTACT: Linda Miller, (215) 814-2068, or by e-mail at miller.linda@epa.gov.

SUPPLEMENTARY INFORMATION: On November 18, 2004, the State of Maryland submitted a formal revision to its State Implementation Plan (SIP). The SIP revision consists of regulations to control particulates and visible emissions from glass melting facilities.

The existing SIP requirements for particulates and visible emissions are found in Code of Maryland Regulations, Title 26, Subtitle 11 Air Quality, Chapter 06 General Emission Standards, Prohibitions, and Restrictions (COMAR 26.11.06). For air quality planning purposes, the State has been divided into planning areas (COMAR 26.11.01.03). This SIP revision affects requirements for the Baltimore and Washington planning areas. The entire State of Maryland is currently in attainment with the national ambient air quality standards (NAAQS) for particulate matter (PM10). The Baltimore and Washington metropolitan areas have recently been designated nonattainment for fine particulate matter (PM2.5). Requirements for the attainment of these areas will be submitted by the State of Maryland by April 5, 2008.

The State of Maryland identified a type of glass melting facility which required a different standard than the currently SIP-approved visible emissions and particulate matter (PM10) requirements in the Baltimore and Washington areas. The State has revised its regulations to include amended visible and PM10 emission limits for glass melting facilities. These limits were promulgated in COMAR 26.11.16, subsequently recodified as COMAR 26.11.25. Currently, the State has identified one operating source in Baltimore which is subject to the revised requirements.

As required by CAA § 110(1), the State of Maryland performed air quality modeling using an EPA-approved protocol to demonstrate that revisions to the existing SIP requirements do not adversely affect the attainment or maintenance of the PM10 NAAQS. In addition, an analysis was completed to demonstrate that the changes did not exceed the maximum allowable increases level in CAA § 163.

II. Summary of SIP Revision

On November 18, 2004 the State submitted a SIP revision request which included COMAR 26.11.25 to be approved into the SIP. Supporting the request, the State provided a PM10 dispersion modeling analysis. Documentation of public participation was included in the submittal.

The regulations for glass melting facilities, COMAR 26.11.16 (Effective September 24, 1984), were recodified to COMAR 26.11.25 Control of Glass Melting Furnaces (Effective October 5, 1998). The regulation is applicable to certain types of glass melting furnaces in the Baltimore and Washington planning areas. MDE has identified one operating facility for which this regulation applies. The source is not a major source for PM10.

According to MDE, it is not feasible for the specific type of glass melting furnaces referenced in this regulation to meet zero visible emissions as required in the Baltimore and Washington planning areas. Therefore, the regulation allows for this source category a standard permitting up to 20 percent opacity from the glass melting furnace and fugitive emissions standard allowing up to 20 percent opacity from a building containing forming and post-forming equipment.

The current particulate matter emissions standard for sources in these areas is 0.03 grains per standard dry cubic foot of dry exhaust gas (gr/SCFD). The submitted SIP revision includes a revised particulate matter emissions standard for glass melting furnace based on the following calculation:

(1) E = 5 + 0.48 (P)

Where:

E = maximum weight discharged per hour (pounds)

P = process weight in tons per hour;

or

(2) E = 2.27 + 0.24 (P)

Where:

E = maximum weight discharged per hour (kilograms)

P = process weight in megagrams per hour

The State of Maryland performed modeling analyses to demonstrate that the revised particulates standard in COMAR 26.11.25 would not adversely affect the national ambient air quality standards (NAAQS) for PM10. EPA has reviewed the modeling analysis and agrees it demonstrates that the NAAQS for PM10 will not be exceeded by the proposed revision to the glass manufacturing emission limits.

The Maryland Department of the Environment provided public notice and opportunity for comment, including a public hearing, on the revision to the SIP. The regulation and the modeling demonstration were made available as part of this public notice. There were no comments on the proposal during the public hearing. No comments were received in the 30-day public comment period.

III. Proposed Action

EPA's review of this material indicates the revision will not cause or contribute to a violation of the NAAQS. EPA is proposing to approve the State of Maryland SIP revision for control of particulates and visible emissions from glass melting facilities as submitted on November 18, 2004. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposed to approve state law as meeting Federal requirements and imposes no additional requirements beyond those imposed by state law. Accordingly, the Administrator certifies that this proposed rule will not have a significant economic impact on a substantial number of small entities under the Regulatory Flexibility Act (5 U.S.C. 601 et seq.) Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirements, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order.

This proposed rule to approve revisions to control of particulate emissions from glass melting facilities does not impose an information collection burden under the provisions of the Paperwork Reduction Act of 1995 (44 U.S.C. 3501 et seq.).

List of Subjects in 40 CFR Part 52

Environmental protection, Air pollution control, Particulate matter, Reporting and recordkeeping requirements.

Authority: 42 U.S.C. 7401 et seq.

Dated: June 15, 2005.
Donald S. Welsh,
Regional Administrator, Region III.

[FR Doc. 05-13283 Filed 7-5-05; 8:45 am]

BILLING CODE 6560-50-M